DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT and a Memorandum of Understanding dated December 16, 2014, and executed by FHWA and TxDOT. The actions relate to various proposed highway projects in the State of Texas. Those actions grant licenses, permits, and approvals for the projects.

DATES: By this notice, TxDOT is advising the public of final agency actions subject to 23 U.S.C. 139(l)(1). A claim seeking judicial review of TxDOT and Federal agency actions on the highway project will be barred unless the claim is filed on or before December 10, 2018. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the highway projects in the State of Texas that are listed below.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. I-610 West Loop Dedicated Bus Lane from I-10 (Northwest Transit Center) to Post Oak Boulevard, Harris County. The project will consist of a two-lane structure over the southbound frontage road of I-610, ultimately crossing to the center of I-610. The total project length is approximately 1.5 miles with typical 12-foot lanes and 4-foot shoulders. The project will not require any additional right of way or displacements. The purpose of the project is to remove bus traffic from the I-610 West Loop and allow buses to move more efficiently and predictably between the Northwest Transit Center and the planned Bellaire/Uptown Transit Center. The actions by TxDOT and Federal agencies and the laws under which such actions were taken are described in the Categorical Exclusion (CE) Determination approved on October 12, 2017, and other documents in the TxDOT project file. The CE Determination and other documents in the TxDOT project file are available by contacting TxDOT at the address provided above or the TxDOT Houston District Office at 7600 Washington Avenue, Houston, Texas, 77007, (713) 802-5000.

2. Airport Boulevard, from Hiram Clarke Road to FM 521 (Almeda Road), Harris County. This project will construct a roadway facility approximately 2.5 miles in length which will connect existing fragmented segments of Airport Boulevard through undeveloped/new location areas to complete a four-lane divided boulevard between Hiram Clarke Road and FM 521. A four-lane divided roadway with a raised center median will be constructed to match the first existing boulevard section of Airport Boulevard from Hiram Clarke Road to Harris County Flood Control District (HCFCD) Channel No. C146-00-00. Airport Boulevard will be constructed on new location from HCFCD Channel No. C146-00-00 through to the intersection with Buffalo Speedway and then to the intersection with Townwood Drive. The second existing segment of Airport Boulevard will be widened from a two-lane roadway to a four-lane boulevard from Townwood Drive to the Waterloo Drive intersection. East of the Waterloo Drive intersection, Airport Boulevard will traverse the following residential streets in a northwest-southeast direction: Woodkerr Street, Lightstar Drive and Ambrose Street. East of Ambrose Street, Airport Boulevard sill continue to the southeast, on new location, crossing HCFCD Channel No. C161-00-00 and a wooded undeveloped area, curve to the northeast through a grassy area between two existing ponds, and extend through to the intersection with Clover Lane. From Clover Lane, Airport Boulevard will curve eastward and continue through an undeveloped wooded area and end at FM 521 (eastern project terminus). There are also two detention areas proposed for this project. The purpose of the Airport Boulevard roadway improvement project is to connect the existing fragmented sections of Airport Boulevard through undeveloped/new location areas to complete a four-lane divided boulevard between Hiram Clarke Road and FM 521. The proposed Airport Boulevard project will offer the traveling public a west-east alternative to the limited existing west-east travel corridors in southwest Houston. The area of southwest Houston between US 90A, Beltway 8 and SH 288 lacks roadway connectivity; the proposed Airport Boulevard will improve traffic movement and safety in this area of southwest Houston.

The actions by TxDOT and Federal agencies and the laws under which such actions were taken are described in the Final Environmental Assessment (EA) approved on July 11, 2017, the Finding of No Significant Impact (FONSI) issued on July 11, 2017, and other documents in the TxDOT project file. The EA, FONSI, and other documents in the TxDOT project file are available by contacting TxDOT at the address provided above or the TxDOT Houston District Office at 7600 Washington Avenue, Houston, Texas, 77007, (713) 802-5000.

3. FM 521, from Beltway 8 to FM 2234 (McHard Road), Fort Bend and Harris Counties. The project widens FM 521 to a typical four-lane divided curb and gutter section with a 16-foot raised median from Riley Road to FM 2234 and ties to the existing seven-lane section north of Riley Road, a distance of roughly 0.9 mile. Improvements to the intersection at FM 521 and FM 2234 provide for a “jug-handle” option that creates two offset “T” intersections (one along FM 521 and one along FM 2234). This eliminates both at-grade railroad crossings with railroad overpasses on FM 521 and FM 2234 and eliminates the four-legged intersection at FM 521 and FM 2234. The distance of the improvements on FM 2234, including the grade separation, extend approximately 0.8 mile. Improvements also include a mix of 15-foot outside lanes, six-foot shoulders, and five to six-foot sidewalks to accommodate bicyclists and pedestrians. The purpose of the project is to expand capacity to enhance mobility, improve safety, improve railroad/local traffic crossings, and accommodate population and economic growth, while minimizing impacts to the natural and social environment.

The actions by TxDOT and Federal agencies and the laws under which such actions were taken are described in the Final Environmental Assessment (EA) approved on March 22, 2017, the Finding of No Significant Impact (FONSI) issued on March 22, 2017, and other documents in the TxDOT project file. The EA, FONSI, and other documents in the TxDOT project file are available by contacting TxDOT at the address provided above or the TxDOT Houston District Office at 7600 Washington Avenue, Houston, Texas, 77007, (713) 802-5000.

4. FM 1960, from BF 1960-A to Atascocita Shores Drive, Harris County. Although the eastern logical terminus of the project is Atascocita Shores Drive, the project extends approximately 0.10 mile further and ties into the western end of the Lake Houston Bridge. The improved roadway from BF 1960-A to Atascocita Road and from Pinehurst Trail to Lake Houston will consist of six travel lanes (two 12-foot lanes, and one 15-foot shared lane in each direction) with one-foot curb offsets. An 18-foot raised median and two 5-foot sidewalks are also included. The improved roadway from Woodland Hills Drive to Atascocita Road will consist of a grade separation with a total of ten lanes (four through lanes on the grade separation and six local access lanes). Eastbound local access lanes will consist of one 15-foot shared lane, and two 12-foot through lanes with one-foot curb offsets. Westbound local access lanes will consist of one 15-foot shared lane, and two 12-foot through lanes, with one-foot curb offsets. The grade-separated through lanes will consist of four 12-foot lanes (two in each direction) and four-foot curb offsets. A six-foot raised median will separate the through lanes on the grade separation. The grade separation will span Atascocita Road, West Lake Houston Parkway, and Farmington Road. Two five-foot sidewalks will be constructed outside the local access lanes on the eastbound and westbound side. The project length is approximately 6.4 miles. The purpose of the project is to alleviate traffic congestion, accommodate future traffic associated with the growth of Harris County, Atascocita, and the City of Humble, and improve mobility and safety. The actions by TxDOT and Federal agencies and the laws under which such actions were taken are described in the Final Environmental Assessment (EA) approved on September 29, 2017, the Finding of No Significant Impact (FONSI) issued on September 29, 2017, and other documents in the TxDOT project file. The EA, FONSI, and other documents in the TxDOT project file are available by contacting TxDOT at the address provided above or the TxDOT Houston District Office at 7600 Washington Avenue, Houston, Texas, 77007, (713) 802-5000.

5. FM 2100, from FM 1960 to South Diamondhead Boulevard, Harris County. The project will widen the existing two-lane, undivided facility to a four-lane, divided facility. North of Hare Cook Road, the improved roadway will have 12-foot travel lanes, two in each direction, separated by an 18-foot-wide median, and 12-foot outside shoulders. Five-foot sidewalks will be constructed on both sides of the roadway. South of Hare Cook Road, the roadway will also have two travel lanes in each direction; the outer lane will be a 15-foot shared use lane, along with a 12-foot-wide inner lane. This section of the roadway will also have a raised median and five-foot sidewalks.

Detention ponds will also be constructed as part of the project. The project is approximately eight miles long. The purpose of the project is to facilitate multi-modal mobility in eastern Harris County by adding additional capacity to FM 2100, as well as sidewalks and bicycle accommodations. The proposed project will also improve safety for the travelling public by constructing a raised median.

The actions by TxDOT and Federal agencies and the laws under which such actions were taken are described in the Final Environmental Assessment (EA) approved on January 20, 2017, the Finding of No Significant Impact (FONSI) issued on January 20, 2017, and other documents in the TxDOT project file. The EA, FONSI, and other documents in the TxDOT project file are available by contacting TxDOT at the address provided above or the TxDOT Houston District Office at 7600 Washington Avenue, Houston, Texas, 77007, (713) 802-5000.

Authority: 23 U.S.C. 139(l)(1).

Issued on: June 26, 2018.
Michael T. Leary,
Director, Planning and Program Development, Federal Highway Administration.

[FR Doc. 2018-14162 Filed 7-12-18; 8:45 am]

BILLING CODE 4910-22-P